DEPARTMENT OF AGRICULTURE

Forest Service

Fremont and Winema Resource Advisory Committee

AGENCY: Forest Service, USDA.

ACTION: Notice of meeting.

SUMMARY: The Fremont and Winema Resource Advisory Committee will meet in Lakeview Oregon, for the purpose of evaluating and recommending resource management projects for funding in FY 2012, under the provisions of Title II of the Secure Rural Schools and Community Self-Determination Act of 2000 (reauthorized in 2008).

DATES: The meeting will be held on July 19 and 20, 2011.

ADDRESSES: The meeting will take place at the Lakeview Interagency Office, 1301 South G Street, Lakeview, OR 97630.

Send written comments to Fremont and Winema Resource Advisory Committee, c/o USDA Forest Service, Klamath Ranger District, 2819 Dahlia, Suite A, Klamath Falls, Oregon or electronically to agowan@fs.fed.us.

FOR FURTHER INFORMATION CONTACT: Amy Gowan, Designated Federal Official, c/o Klamath Ranger District, 2819 Dahlia, Suite A, Klamath Falls, Oregon, telephone (541) 883-6741.

SUPPLEMENTARY INFORMATION: The agenda will include a review and evaluation of FY 2012 Title II proposals including presentations by project proponents. Business items will include the prioritization and ranking of proposals by the RAC, including final recommendations for funding of fiscal year 2012 projects.

All Fremont and Winema Resource Advisory Committee Meetings are open to the public. There will be a time for public input and comment. Interested citizens are encouraged to attend.

Dated: June 10, 2011.
Amy Gowan,
Designated Federal Official.

[FR Doc. 2011-14939 Filed 6-15-11; 8:45 am]

BILLING CODE 3410-11-P